ENVIRONMENTAL PROTECTION AGENCY

[FRL-7246-1]

Agency Information Collection Activities

AGENCY: Environmental Protection Agency (EPA).

ACTION: Notice.

SUMMARY: In compliance with the Paperwork Reduction Act (44 U.S.C. 3501 et seq.), this notice announces that EPA is planning to submit the following proposed and/or continuing Information Collection Requests (ICRs) to the Office of Management and Budget (OMB). Before submitting the renewal package to OMB for review and approval, EPA is soliciting comments on specific aspects of the collection as described below.

DATES: Comments must be submitted on or before September 16, 2002.

ADDRESSES: U.S. Environmental Protection Agency, 1200 Pennsylvania Avenue NW., Mail Code 2225A, OECA/OC/AgD, Washington, DC 20460. A copy of this ICR may be obtained from Stephen Howie tel: (202) 564-4146; e-mail: howie.stephen@epa.gov.

FOR FURTHER INFORMATION CONTACT: Stephen Howie, tel: (202) 564-4146; FAX: (202) 564-0085; e-mail: howie.stephen@epa.gov.

SUPPLEMENTARY INFORMATION: Affected Entities: This action affects entities which import pesticides or devices into the United States.

Title: Notice of Arrival of Pesticides and Devices (EPA Form 3540-1), OMB Number 2070-0020, EPA ICR Number 0152.07, Expiration Date: December 31, 2002.

Abstract: The U.S. Customs regulations at 19 CFR 12.112 require that an importer desiring to import pesticides into the United States shall, prior to the shipment's arrival, submit a Notice of Arrival of Pesticides and Devices (EPA Form 3540-1) to EPA who will determine the disposition of the shipment. After completing the form, EPA returns the form to the importer, or his agent, who must present the form to Customs upon arrival of the shipment at the port of entry. This is necessary to insure that EPA is notified of the arrival of pesticides and devices as required by the Federal Insecticide Fungicide and Rodenticide Act (FIFRA) section 17(c) and has the ability to examine such shipments to determine that they are in compliance with FIFRA.

The form requires identification and address information of the importer or his agent and information on the identity and location of the imported pesticide or device shipment.

When the form is submitted to EPA regional personnel for review it is examined to determine whether the shipment should be released for entry upon arrival or alternatively whether it should be detained for examination. The responsible EPA official returns the form to the respondent with EPA instructions to the U.S. Customs Service as to the disposition of the shipment.

Upon the arrival of the shipment, the importer presents the completed NOA to the District Director of U.S. Customs at the port of entry. U.S. Customs compares entry documents for the shipment with the Notice of Arrival and notifies the EPA Regional Office of any discrepancies which the EPA will resolve with the importer or broker. At this point the shipment may be retained for examination. If there are no discrepancies Customs follows instructions regarding release or detention. If EPA inspects the shipment and it appears from examination of a sample that it is adulterated, or misbranded or otherwise violates the provisions of FIFRA, or is otherwise injurious to health or the environment, the pesticide or device may be refused admission into the United States.

This reporting requirement is needed to inform the Agency of pesticides arriving in the customs territory of the United States and to ensure compliance with FIFRA by the responsible party importing pesticides. This reporting requirement is needed to meet direct statutory requirements of FIFRA regarding notification of the Agency of such arrivals.

The information collected is used by EPA Regional pesticide enforcement and compliance staff and the Headquarters Office of Enforcement and Compliance Assurance and Office of Pesticide Programs. The U.S. Treasury Department (Customs), the Department of Agriculture, the Food and Drug Administration, and other Federal agencies may also make use of this information.

The EPA would like to solicit comments to:

(i) Evaluate whether the proposed collection of information is necessary for the proper performance of the functions of the Agency, including whether the information will have practical utility;

(ii) Evaluate the accuracy of the Agency's estimate of the burden of the proposed collection of information;

(iii) Enhance the quality, utility, and clarity of the information to be collected; and

(iv) Minimize the burden of the collection of information on those who are to respond, including through the use of automated collection techniques or other forms of information technology, e.g., permitting electronic submission of responses.

Burden Statement: The average annual burden to the industry over the next three years is estimated to be 0.3 person hours per response.

Respondents/affected entities: 7,000.

Estimated number of respondents: 7,000.

Frequency of responses: 1.

Estimated total annual hour burden: 2,100.

There are no capital/startup costs or operating and maintenance (O&M) costs associated with this ICR since all equipment associated with this ICR is present as part of ordinary business practices.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: July 3, 2002.
Richard Colbert,
Director, Agriculture Division.

[FR Doc. 02-17874 Filed 7-15-02; 8:45 am]

BILLING CODE 6560-50-P